DEPARTMENT OF EDUCATION

Presidential Academies for American History and Civics Education; Congressional Academies for Students of American History and Civics Education

AGENCY: Office of Innovation and Improvement, Department of Education.

ACTION: Notice of final waiver and extension of project period.

SUMMARY: The Secretary announces a waiver of the requirements in 34 CFR 75.250 and 75.261(c)(2) of the Education Department General Administrative Regulations (EDGAR), as they apply to projects funded under the Presidential Academies for American History and Civics Education, and 34 CFR 75.261(c)(2), as it applies to the project funded under the Congressional Academies for Students of American History and Civics Education program. These regulations, respectively, generally prohibit project periods exceeding five years and any project period extensions involving the obligation of additional Federal funds. A waiver will extend the project period for 24 months through fiscal year (FY) 2012 for the two current five-year grants funded under the Presidential Academies for American History and Civics Education program and the one current three-year grant funded under the Congressional Academies for Students of American History and Civics Education program. These grantees will continue to receive additional Federal funds (from the FY 2010 appropriation for the program).

DATES: Effective Date: This waiver and extension of project period are effective August 25, 2010.

FOR FURTHER INFORMATION CONTACT: Kelly Terpak, U.S. Department of Education, 400 Maryland Avenue, SW., room 4W253, Washington, DC 20202-5960, Telephone: (202) 205-5231 or by e-mail: Academies@ed.gov.

If you use a telecommunications device for the deaf (TDD), call the Federal Relay Service, toll free, at 1-800-877-8339.

SUPPLEMENTARY INFORMATION:

Background

The Presidential Academies for American History and Civics Education (Presidential Academies) program funds projects that offer workshops for both veteran and new teachers of American history and civics to strengthen their knowledge of, and preparation for, teaching these subjects. The Congressional Academies for Students of American History and Civics Education (Congressional Academies) program funds projects that help students to develop a broader and deeper understanding of these subjects. Currently, the Presidential Academies program funds two grantees, and the Congressional Academies program funds one grantee.

Eligible entities for these programs are: Institutions of higher education, museums, libraries, and other public and private agencies, organizations, and institutions (including for-profit institutions) and consortia of such agencies, organizations, and institutions. Applicants must provide evidence of their organization's demonstrated expertise in historical methodology or the teaching of history.

We published a notice of proposed waiver and extension of project period in the Federal Register on June 30, 2010, (75 FR 37780). That notice contained background information and our reasons for proposing the waiver and extension of project period.

As outlined in that notice, we proposed this waiver and extension of project period in order to enable each of the current grantees to strengthen the quality of its evaluation and other data collection and reporting, and to conduct one additional round of academy activities as approved in each grant award. We believe the additional time and resources will provide information to strengthen this grant competition as well as similar professional development grant programs in coming years.

In the case of these projects we believe it is preferable to review requests for continuation awards from the current grantees and extend currently funded projects, rather than hold a new competition in FY 2010. Authorizing current grantees to request additional funds would be a more appropriate and effective means of continuing current projects and would result in a more cost-effective use of Federal funds.

Therefore, the Secretary waives the requirements in 34 CFR 75.250, which prohibit project periods exceeding five years, and the requirements in 34 CFR 75.261(c)(2), which limit the extension of a project period if it involves the obligation of additional Federal funds. With this waiver and extension of project period: (1) Current Presidential Academies and Congressional Academies grantees will receive FY 2010 funds and continue to operate through FY 2012 to implement an additional budget period of up to 24 months; and (2) we will not announce a new competition or make new awards under the Presidential Academies or Congressional Academies programs in FY 2010.

Public Comment: In response to our invitation in the notice of proposed waiver and extension of project period, we did not receive any substantive comments on the proposed waiver and extension of project period.

Final Waiver and Extension of Project Period—Presidential Academies and Congressional Academies

The Secretary will waive the requirements in 34 CFR 75.250, which prohibit project periods exceeding five years, and the requirements in 34 CFR 75.261(c)(2), which limit the extension of a project period if it involves the obligation of additional Federal funds, for the current Presidential Academies (34 CFR 75.250 and 34 CFR 75.261(c)(2)) and Congressional Academies grantees (34 CFR 75.261(c)(2)).

Regulatory Flexibility Act Certification

The Secretary certifies that this waiver and extension of project period will not have a significant economic impact on a substantial number of small entities.

The small entities that will be affected by this notice are those that have been historically eligible to receive an award under a competition for the Presidential Academies and Congressional Academies programs:

(1) Institutions of higher education.

(2) Museums.

(3) Libraries.

(4) Other public and private agencies, organizations and institutions (including for-profit institutions).

(5) Consortia of such agencies, organizations, and institutions that show their organizations' demonstrated expertise in historical methodology or the teaching of history.

The Secretary certifies that the waiver and extension of project period will not have a significant economic impact on these entities because the waivers and the activities required to support the additional years of funding will not impose excessive regulatory burdens or require unnecessary Federal supervision. The waiver will impose minimal requirements to ensure the proper expenditure of program funds, including requirements that are standard for continuation awards.

Paperwork Reduction Act of 1995

This notice does not impact information collection requirements.

Intergovernmental Review

These programs are subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for these programs.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Numbers 84.215A, Presidential Academies for American History and Civics Education, and 84.215D, Congressional Academies for Students of American History and Civics Education)

Program Authority: 20 U.S.C. 6713.

Dated: August 20, 2010.
James H. Shelton, III,
Assistant Deputy Secretary for Innovation and Improvement.

[FR Doc. 2010-21175 Filed 8-24-10; 8:45 am]

BILLING CODE 4000-01-P